DEPARTMENT OF VETERANS AFFAIRS

Announcement Date Postponed for the Grand Prize Winner Announcement for the America COMPETES Reauthorization Act of 2011: Project REACH Homelessness Mobile App Contest

AGENCY: Department of Veterans Affairs.

ACTION: Notice.

SUMMARY: On March 22, 2012, the Department of Veterans Affairs (VA) published a notice in the Federal Register (77 FR 16895) to announce the launch of VA's Project REACH Homelessness Mobile App Contest, authorized under section 105 of the America COMPETES Reauthorization Act of 2011. Project REACH leadership has decided to postpone announcement of the Grand Prize Winner until no later than 11 p.m. on December 31, 2012. Postponing the announcement will provide participants with a greater opportunity to receive recognition for their dedication and efforts to end Veteran homelessness. This notice serves as an update to the original notice affecting only the announcement date for the Grand Prize Winner. All rules and requirements outlined in the March 22, 2012, Federal Register notice will remain in effect.

DATES: The Grand Prize Winner will be announced after November 9, 2012, but no later than 11 p.m., December 31, 2012. Competition began 12 p.m., March 22, 2012, and entries were accepted until 11 p.m., Eastern Standard Time, July 27, 2012.

Approved: October 12, 2012.
John R. Gingrich,
Chief of Staff, Department of Veterans Affairs.

[FR Doc. 2012-26070 Filed 10-22-12; 8:45 am]

BILLING CODE 8320-01-P